DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c) (2)(A)]. This program helps to ensure that requested data can be provided in the desired format, reporting burden (time and financial resources) is minimized, collection instruments are clearly understood, and the impact of collection requirements on respondents can be properly assessed. The Bureau of Labor Statistics (BLS) is soliciting comments concerning the proposed revision of the “Report on Employment, Payroll, and Hours (BLS-790).” A copy of the proposed information collection request (ICR) can be obtained by contacting the individual listed below in the ADDRESSES section of this notice.

DATES: Written comments must be submitted to the office listed in the ADDRESSES section of this notice on or before October 9, 2001.

ADDRESSES: Send comments to Amy A. Hobby, BLS Clearance Officer, Division of Management Systems, Bureau of Labor Statistics, Room 3255, 2 Massachusetts Avenue, NE., Washington, DC 20212, telephone number 202-691-7628 (this is not a toll free number).

FOR FURTHER INFORMATION CONTACT: Amy A. Hobby, BLS Clearance Officer, telephone number 202-691-7628. (See ADDRESSES section.)

SUPPLEMENTARY INFORMATION:

I. Background

The Current Employment Statistics (CES) Survey is a Federal/State program of the Bureau of Labor Statistics. It produces monthly estimates of employment, hours, and earnings based on U.S. nonagricultural establishment payrolls. Information for these estimates is derived from a sample of 359,400 reports, as of April 2001. Each month, these firms report their employment, payroll, and hours on forms identified as the BLS-790. An additional 46,400 establishments, (as of April 2001), currently are collected for the Wholesale Trade, Mining, Construction, and Manufacturing industries under the new probability-based sample design. Other industry divisions will be phased in over the next two years. When the phase-in is complete in early 2003, the BLS expects to be collecting data from 172,500 Unemployment Insurance (UI) accounts for the new design, representing about 445,000 work sites. As industries are converted to the new design, there will be a reduction in the number of reports collected for the current design.

The BLS-790 forms are used for both the current and probability-based designs, and are submitted for clearance. A list of all form types currently used is attached. Respondents in the probability design receive variations of the basic collection forms, depending on their mode of reporting. The BLS is requesting approval through December 31, 2004.

Conversion to the North American Industrial Classification System (NAICS)

Forms for the NAICS-based sample are included in this request. The BLS plans to introduce the NAICS forms in January 2003. The NAICS forms incorporate significant improvements in forms design and layout based on cognitive testing and expert review. These forms may undergo further testing and review prior to their introduction. The forms will be resubmitted for clearance if any substantive changes are made. In general, the data elements and data item definitions remain the same under NAICS as they were under the Standard Industrial Classification (SIC) basis. However, the BLS has taken this opportunity to consolidate several forms and streamline others. All Service-producing industries under NAICS will be collected using the Service Producing Industries form E. This form collects all of the data items previously collected on the SIC-based form E. This will provide the BLS with an opportunity to collect commissions in all service producing sectors where such payments are fairly common. This improvement should enhance the quality of CES earnings estimates. The SIC-based form types A, B, and C are retained; however; they have been re-titled to reflect the NAICS sector names. Reporting requirements for education units have been reduced. All education sectors, public and private, will report only All Employees, Women Workers, and Faculty employment. The Public Administration NAICS reports will continue to be collected using the G form, which only collects all employees and women.

The CES program is a voluntary program under Federal statute. Reporting to the State agencies is voluntary in all but four States (California, Oregon, Washington, North Carolina) and Puerto Rico.

Automated data collection methods are now used for most of the CES sample. Approximately 214,300 reports are collected using Touch-tone Data Entry (TDE), as of April 2001. In comparison, 26,700 reports are collected by mail. The balance of the sample, 164,800 reports, is collected through other automated methods including Computer Assisted Telephone Interviewing (CATI), Electronic Data Interchange (EDI), facsimile collection, and submission of tapes and diskettes.

Research on use of the World Wide Web (WWW) for data collection is continuing. We expect that reporting via the WWW will grow as more respondents gain access to the Web at their workstations. We currently are testing the use of digital certificates for improving the security of reporting.

The probability design currently is collected by using CATI for initial enrollment, and CATI, TDE, Fax, or EDI for ongoing collection. Because of the need to maintain acceptable response rates, the BLS will be switching more ongoing collection to permanent CATI and away from self-reporting via TDE and Fax. This will necessitate a 25% reduction in the sample size to accommodate the increased resource demands of CATI. However, because of higher response, the BLS expects the number of usable responses will remain about the same.

I. Desired Focus of Comments

The Bureau of Labor Statistics is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Action

Office of Management and Budget clearance is being sought for the Report on Employment, Payroll, and Hours (BLS-790).

Type of Review: Revision of a currently approved collection.

Agency: Bureau of Labor Statistics.

Title: Report on Employment, Payroll, and Hours (BLS-790).

OMB Number: 1220-0011.

Affected Public: Business or other for-profit; Not-for-profit institutions; Federal Government; State, local, or tribal government.

Current Design Reporting Burden
Form | Number of respondents | Frequency of responses | Annual response | Minutes to complete report | Annual burden hours
BLS-790 BM | 400 | 12 | 4,800 | 15 | 1,200
BLS 790-G, G-S | 38,400 | 12 | 460,800 | 5 | 38,400
BLS 790-F1, F2, F3 | 18,800 | 12 | 225,600 | 7 | 26,320
All other BLS-790 | 261,700 | 12 | 3,140,400 | 7 | 366,380
Total | 319,300 |  | 3,831,600 |  | 432,300

Probability Design Reporting Burden
Form | Number of respondents | Frequency of responses | Annual response | Minutes to complete report | Annual burden hours
BLS 790-F1, F2, F3 | 2,700 | 12 | 32,400 | 7 | 3,780
All other BLS-790 | 51,500 | 12 | 618,000 | 7 | 72,100
Total | 54,200 |  | 650,400 |  | 75,880

Total Burden Cost (capital/startup): $0.

Total Burden Cost (operating/maintenance): $0.

Comments submitted in response to this notice will be summarized and/or included in the request for Office of Management and Budget approval of the information collection request; they also will become a matter of public record.

Signed at Washington, D.C., this 30th day of July, 2001.
Jesus Salinas,
Acting Chief, Division of Management Systems, Bureau of Labor Statistics.

[FR Doc. 01-19950 Filed 8-8-01; 8:45 am]

BILLING CODE 4510-24-P